INTERNATIONAL TRADE COMMISSION

[Investigation No. 337-TA-901]

Certain Handheld Magnifiers and Products Containing Same Terminating An Investigation on the Basis of a Consent Order; Issuance of Consent Order

AGENCY: U.S. International Trade Commission.

ACTION: Notice.

SUMMARY: Notice is hereby given that the U.S. International Trade Commission has determined not to review the presiding administrative law judge's (“ALJ”) initial determination (“ID”) (Order No. 4) granting the respondents' unopposed motion to terminate the above-captioned investigation in its entirety on the basis of a consent order stipulation and proposed consent order. The Commission has issued the subject consent order, and has terminated the investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 15, 2013, based on a complaint filed by Freedom Scientific, Inc. of St. Petersburg, Florida (“Freedom”). 78 FR 68862 (Nov. 15, 2013). The complaint alleged violations of section 337 of the Tariff Act of 1930, as amended, 19 U.S.C. 1337, in the importation into the United States, the sale for importation, and the sale within the United States after importation of certain handheld magnifiers and products containing same by reason of infringement of certain claims of U.S. Design Patent No. D624,107 and U.S. Patent No. 8,264,598. The Commission's notice of investigation named as respondents Aumed Group Corp. of Beijing, China, and Aumed Inc. of San Carlos, California (collectively, “Aumed”).

On December 18, 2013, Aumed moved to terminate the investigation based upon a consent order stipulation and proposed consent order. See 19 CFR 210.21(c). Freedom did not oppose the motion. On December 27, 2013, the Commission investigative attorney filed a response in support of the motion. On February 12, 2014, Aumed filed a substitute consent order stipulation executed by Aumed, as opposed to Aumed counsel.

On March 20, 2014, the ALJ granted the motion as an ID. Order No. 4 at 3. The ALJ found that the substitute consent order stipulation conforms with Commission Rule 210.21(c)(3), 19 CFR 210.21(c)(3), and that the proposed consent order is consistent with Commission Rule 210.21(c)(4), 19 CFR 210.21(c)(4). Order No. 4 at 2. Further, the ALJ found that the public interest favored granting Aumed's motion. Id. at 2-3; see 19 CFR 210.50(b)(2).

No petitions for review were filed. The Commission has determined not to review the ID. The Commission has issued the subject consent order, and has terminated the investigation.

The authority for the Commission's determination is contained in section 337 of the Tariff Act of 1930, as amended (19 U.S.C. 1337), and in the Commission's Rules of Practice and Procedure (19 CFR Part 210).

Issued: April 18, 2014.
By order of the Commission.
Lisa R. Barton,
Acting Secretary to the Commission.

[FR Doc. 2014-09297 Filed 4-23-14; 8:45 am]

BILLING CODE 7020-02-P